DEPARTMENT OF EDUCATION

[CFDA Nos. 84.184K, 84.215E, 84.215F, 84.184A, 84.184B]

Office of Elementary and Secondary Education—Safe and Drug-Free Schools and Communities—National Programs

AGENCY: Department of Education.

ACTION: Notice of closing date extensions and revisions for Safe and Drug-Free Schools Program discretionary grants.

SUMMARY: The Assistant Secretary extends or revises the closing date for applications for two grant competitions, announces procedures to extend closing dates for Safe and Drug-free Schools Program discretionary grants if the e-Application system is unavailable, and reaffirms the use of e-Application as the only electronic means of application submission.

FOR FUTHER INFORMATION CONTACT: Safe and Drug-Free Schools Program, U.S. Department of Education, 400 Maryland Avenue, SW, Washington, DC 20202-6123. Telephone (202) 260-3954.

Individuals who use a telecommunication device for the deaf (TDD) may call the Federal Information Relay Service (FIRS) at (800) 877-8339.

Individuals with disabilities may obtain this document in an alternative format, (e.g., Braille, large print, audiotape, or computer diskette) on request to the program contact listed is the preceding paragraph.

Electronic Access to This Document: You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

SUPPLEMENTARY INFORMATION: On March 28, 2002, we published a notice in the Federal Register (67 FR 15048 through 15050) inviting applications for new awards for the Elementary and Secondary School Counseling Programs grant competition with a deadline of May 13, 2002, for receipt of applications. Conflicting information in the application package may have caused some applicants to misconstrue whether applications had to be received or transmitted by the closing date. We, therefore, revise the closing date to allow for transmittal as well as receipt of the application by the May 13, 2002, closing date. An applicant must show one of the following as proof of mailing on or before May 13, 2002: (1) A legibly dated U.S. Postal Service postmark; (2) a legible mail receipt with the date of mailing stamped by the U.S. Postal Service, or (3) a dated shipping label, invoice, or receipt from a commercial carrier. We will not accept either of the following as proof of mailing: (1) A private metered postmark or (2) a mail receipt that is not dated by the U.S. Postal Service.

On April 12, 2002, we published a notice in the Federal Register (67 FR 17974 through 17976) inviting applications for new awards for the National Coordinator Program with a deadline of May 28, 2002, for receipt of applications. We extend the deadline for receipt of applications for this competition to June 14, 2002. Applications must be received on or before June 14, 2002, in the Department of Education's Application Control Center at the address given in the mailing instructions section of the application package. The e-Application system will not be available for submission of applications for the National Coordinator Program during this extension. Applications received after June 14, 2002, will not be accepted. This action is taken because of technical difficulties with the e-Application system on May 28, 2002, the closing date for the National Coordinator grant program.

Closing Date Extension in case of System Unavailability: An applicant that elects to participate in the e-Application pilot for the Carol M. White Physical Education Program, the Alcohol Abuse Reduction program, or the Mentoring Programs and is prevented from submitting an application on any of the closing dates because the e-Application system is unavailable will be granted an extension of one business day in order to mail the application. For the extension to be granted, the applicant must be a registered user of e-Application and the e-Application system must be unavailable for 60 minutes or more between the hours of 8:30 a.m. and 4:30 p.m. Washington, D.C. time on the closing date. We will not grant a further extension of the deadline if technical problems with the e-Application system persist.

e-Application as the only electronic means of submission: e-Application is a data driven system that allows users to enter data on-line while completing their applications. It is the only electronic means by which we will accept applications. Applications transmitted by e-mail or any electronic means other than e-Application will not be accepted.

[FR Doc. 02-14978 Filed 6-12-02; 8:45 am]

BILLING CODE 4000-01-P